DEPARTMENT OF JUSTICE

Antitrust Division

Notice Pursuant to the National Cooperative Research and Production Act of 1993—Z-Wave Alliance, Inc.

Notice is hereby given that, on November 19, 2020, pursuant to Section 6(a) of the National Cooperative Research and Production Act of 1993, 15 U.S.C. 4301 et seq. (“the Act”), Z-Wave Alliance, Inc. has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Airetec Pte Ltd., Primz Bizhub, SINGAPORE; Black Nova Corp. Limited, Central, HONG KONG; Bridgetek Pte Ltd., Singapore, SINGAPORE; Buffalo Inc., Nagoya, JAPAN; casenio AG, Berlin, GERMANY; ComfortClick d.o.o., Ljubljana, SLOVENIA; Digital Monitoring Products Inc., Springfield, MO; Essence Group (Essence Security International Ltd.), Herzliya, ISRAEL; Fermax Asia Pacific Pte Ltd., Bradell Tech, SINGAPORE; Guandong Daming Laffey Electric Co., Ltd., Guangdong, PEOPLE'S REPUBLIC OF CHINA; I2G D.O.O., Ljubljana, SLOVENIA; iHomeFuture, Dubai, UNITED ARAB EMIRATES; Insight Energy Ventures LLC d/b/a/Powerley, Royal Oak, MI; IOOTA Srl, Imola, ITALY; ioXt Alliance, Newport Beach, CA; Life2Better, Buenos Aires, ARGENTINA; MCA Systems S.A.S., Barranquilla, COLOMBIA; OpenPath Products, Annapolis, MD; Paxton Access Ltd., Brighton, UNITED KINGDOM; Pyronix Limited, Rotherham, UNITED KINGDOM; Radio ThermostatCompany of America, Modesto, CA; Shenzhen iSurpass Technology Co., Ltd., Shenzen; PEOPLE'S REPUBLIC OF CHINA; Shenzhen Saykey Technology Co,. Ltd., Shenzhen, PEOPLE'S REPUBLIC OF CHINA; System and Network Engineering Srl, Roma, ITALY; Tantiv4 Inc., Milpitas, CA; Technicolor Connected Home Rennes, Cesson-Sevigne Cedex, FRANCE; Technicolor Connected Home USA, LLC, Lawrenceville, GA; VOLANSYS Technologies Pvt. Ltd., Santa Clara, CA; Zhejiang TKB Technology Co., Ltd., Yueqing, PEOPLE'S REPUBLIC OF CHINA; ZOME Energy Networks, Inc., Hollis, NH; ABUS KG, Wetter, GERMANY; alfanar Co., Riyadh, SAUDI ARABIA; Askey Computer Group, New Taipei City, TAIWAN; Chuango Security Technology Company Account, Fuzhou, PEOPLE'S REPUBLIC OF CHINA; CHUBU TELECOMMUNICATIONS CO., INC., Nagoya, JAPAN; Connection Technology Systems Inc. (SiMPNiC Brand), New Taipei City, TAIWAN; devolo AG, Aachen, GERMANY; EcoDim, Doetinchem, THE NETHERLANDS; Elektrizitätswerke des Kantons Zürich, Zurich, SWITZERLAND; EUROtronic Technology GmbH, Steinau-Ulmbach, GERMANY; Forest Group Nederland B.V., Deventer, THE NETHERLANDS; Glamo Inc., Tokyo, JAPAN; Hank Electronics LTD., Shenzhen, PEOPLE'S REPUBLIC OF CHINA; HavenLock Inc., Franklin, TN; Hogar Controls Inc., Sterling, VA; HomeControl AS, Oslo, NORWAY; HomeSeer Technologies LLC, Bedford, NH; HORNBACH Baumarkt AG, Bornheim, GERMANY; Hubitat Inc., Scottsdale, AZ; Inovelli LLC, Kalamazoo, MI; IOTAS Inc., Portland, OR; IWATSU ELECTRICAL CO., LTD., Tokyo, JAPAN; KDDI CORPORATION, Tokyo, JAPAN; LinkedGo Technology Co. Ltd., Guangzhou, PEOPLE'S REPUBLIC OF CHINA; MASTER SRL DIVISIONE ELETTRICA, Este, ITALY; Namron AS, Oslo, NORWAY; Nice S.p.A, Oderzo TV, ITALY; Nihon Lock Service Co., Ltd., Tokyo, JAPAN; O2 Czech Republic a.s., Prague, CZECH REPUBLIC; PayLease, LLC DBA Zego, San Diego, CA; Q-light, Kristiansand, NORWAY; ROC-Connect, Inc., Palo Alto, CA; Samjin Co., Ltd., Gyeonggi-do, SOUTH KOREA; Satco Products Inc., Brentwood, NY; Schneider Electric, Andover, MA; Schwaiger GmbH, Langenzenn, GERMANY; Sensurance, San Antonio, TX; Smart Electronic Industrial (Dongguan) Co., Limited, Dongguan City, PEOPLE'S REPUBLIC OF CHINA; Smart Home SA, Gland, SWITZERLAND; SmartThings Inc., Mountain View, CA; Sony Network Communication Inc., Tokyo, JAPAN; Stelpro, QC, CANADA; Telldus Technologies, Varberg, SWEDEN; The Delaney Hardware Co., Cumming, GA; TIM S.p.A. (TELECOM ITALIA), Milano, ITALY; Toledo & Co., Dorado, PUERTO RICO; Townsteel Inc., City of Industry, CA; Tronico Technology Company Limited, Shatin, HONG KONG; Universal Devices, Inc., Encino, CA; Viva Labs AS, Oslo, NORWAY; Vodafone Group Services GmbH, Dusseldorf, GERMANY; Zooz, Flanders, NJ; ZWaveProducts.com, Inc., Randolph, NJ; Z-Works, Tokyo, JAPAN; ABUS Security Center GmbH & Co. KG, Affing, GERMANY; TONG LUNG METAL INDUSTRY CO., LTD., Chiayi County, TAIWAN; Alarm.com Incorporated, McLean, VA; ASSA ABLOY, New Haven, CT; LEEDARSON, Xiamen, PEOPLE'S REPUBLIC OF CHINA ; Qolsys, San Jose, CA; Ring, LLC, Santa Monica, CA; Silicon Laboratories, Inc., Austin, TX; STRATIS IOT, Inc., Philadelphia, PA; 3MANTECH, South Haven, MS; A1 Smarthome Inc., Calgary, CANADA; ACTE A/S, Broendby, DENMARK; Allvy Technology Integrators, LLC, Spring, TX; ARVITECH CONTROLS S.A., Guayaquil, ECUADOR; Automate Asia, Singapore, SINGAPORE; Avant-Garde Technology Ltd., Abuja, NIGERIA; AVX Integrated Technologies, West Nyjack, NJ; Aware Care Network, Plano, TX; Base2 Managed It Pty Ltd., New South Wales, AUSTRALIA; Beautmotica, Breda, THE NETHERLANDS; Brittworks, Richmond, CA; B-Smart Integration, St. Leon-Rot, GERMANY; Buo Home SL, Parets Del Valles, SPAIN; Canny Electrics, Victoria, AUSTRALIA; Cassar & Son Industries L.L.C, Austin, TX; CIMA Group, Miami, FL; Comfortica B.V., Enschede, THE NETHERLANDS; Complete Electrical Academy, Clifton, VA; ContractOne, Vail, CO; Custom Smart Automation, New South Wales, AUSTRALIA; D2E Electrical, New South Wales, AUSTRALIA; Domadoo S.A.S., Rillieux La Pape, FRANCE; Domoticalia Smart Home Experience, Madrid, SPAIN; EnLife, Haapsalu, ESTONIA; Farm Automation Australia Pty. Ltd., East Bendigo, AUSTRALIA; Gadget Access Pty Ltd, New South Wales, AUSTRALIA; Go4Panda d.o.o., Novo Mesto, SLOVENIA; GroupSYS Pty Ltd., New South Wales, AUSTRALIA; Gullitech, Savigny sur Orge, FRANCE; Head Enterprises Queensland Pty Ltd., Queensland, AUSTRALIA; i4Things BV, DA Herten, THE NETHERLANDS; idomotique GmbH, Grenchen, Solothurn, SWITZERLAND; Ingenieurburo Hospe, Kelkheim, GERMANY; IOn Technologies, Jacksonville, FL; IVEREST EOOD, Plodiv, BULGARIA; JEEDOM SAS, Rillieux La Pape, FRANCE; JV Innovation LLC, East Wakefield, NH; KEYless Entry Systems, New South Wales, AUSTRALIA; KJ Robotics, Hedehusene, DENMARK; Kohost LLC, Las Vegas, NV; L3 Homeation Pte Ltd., Singapore, SINGAPORE; Lera Smart Home Solutions, New South Wales, AUSTRALIA; LiveSmart Technologies LLC, Anaheim, CA; LivingLab Development Co., Ltd., New Taipei City, TAIWAN; Lynx Integrated Systems, Perth, AUSTRALIA; M Punkt Nu Sverige AB, Linköping, SWEDEN; Mad Rooster Home Protection, Mercer, WI; Miguel Corporate Services Pte Ltd., Midview City, SINGAPORE; Modern Lifestyles Trading Est., Jeddah, SAUDI ARABIA; Modern System Concepts, Inc., Houston, TX; NEDECO Electronics LTD, Nicosia-, CYPRUS; Nemlia sp/f, Torshavn, FAROE ISLANDS; NEON Multimedia Kft., Budapest, HUNGARY; Ohlandt Consulting, Laytonsville, MD; OOT Technologies Ltd., Siofok, HUNGARY; ottosystem GmbH, Darmstadt, GERMANY; picard automation, San Francisco, CA; Plexus Solutions Pty Ltd., Queensland, AUSTRALIA; Rejoin Telematics AB, Orebro, SWEDEN; Resilient Smart Home Communications LLC, Dallas, TX; Rigionn, Singapore, SINGAPORE; Robbshop, Oss, THE NETHERLANDS; Robotix.be, Wezembeek-Oppem, BELGIUM; Security Specialists Ltd., Dunedin, NEW ZEALAND; Sentegrate Pty Ltd., New South Wales, AUSTRALIA; SHINKO SEISAKUSHO CO.,LTD., Chiba, JAPAN; Sky Telecom Ingenieria S.L., Bilbao-Vizcaya, SPAIN; Smart at Home, Pullenvale, AUSTRALIA; Smart Dalton, Riyadh, SAUDI ARABIA; Smart Lifestyle Solutions Pty Ltd., New South Wales, AUSTRALIA; Smart Things Electronics SRL, Ilfov, ROMANIA; SmartEzy Pte Ltd., Singapore, SINGAPORE; Spectrum Smart Solutions LLC, Ajman, UNITED ARAB EMIRATES; Switchee Limited, London, UNITED KINGDOM; Teracom Solutions Pty Ltd., Victoria, AUSTRALIA; There Corporation Oy, Espoo, FINLAND; Tower Automation Pty Ltd., New South Wales, AUSTRALIA; Utilacor PTY LTD., Victoria, AUSTRALIA; Wimonitor s.r.l., Rovereto, ITALY; YATUN s.r.o., Praha, CZECH REPUBLIC; ZNET CO., LTD., Tokyo, JAPAN; Zone-B2B SARL, Saint-Prex, SWITZERLAND; A.KEEMPLECOM LIMITED, Limassol, CYPRUS; Aeotec Limited, Wanchai, HONG KONG; Airzone—Corporacion Empresarial Altra, Malaga, SPAIN; Alfred International Inc., Toronto, CANADA; Alfred Smart Systems, S.L., Barcelona, SPAIN; Alula, St. Paul, MN; AMPER, Pozuelo de Alarcón, Madrid, SPAIN; Animus Home AB, Lund, SWEDEN; Athom B.V., Enschede, THE NETHERLANDS; Atsumi Electric, Shizuoka, JAPAN; Axis Communications AB, Lund, SWEDEN; BBM Corporation, Tokyo, JAPAN; BLAZE AUTOMATION INC., Princetom, NJ; Boundary Technologies Ltd., Edinburgh, UNITED KINGDOM; Brivo, Bethesda, MD; BRK Brands Inc., Aurora, IL; Clare Controls LLC, Sarasota, FL; Climax Technology Co., Ltd., Taipei City, TAIWAN; COMPUTIME Ltd., Pak Shek Kok, HONG KONG; Confio Technologies Private Limited, Bangalore, INDIA; Connected Object, Paris Cedex 12, FRANCE; Control4, Salt Lake City, UT; Coqon GmbH, Bonn, GERMANY; Cozify Oy, Espoo, FINLAND; Danfoss A/S, Nordborg, DENMARK; Digital Home Systems PTY LTD., Victoria, AUSTRALIA; Dongguan Will Power Technology Co., Ltd., Guandong, PEOPLE'S REPUBLIC OF CHINA; Duke Energy Business Services LLC, Charlotte, NC; Dwelo, Inc., Draper, UT; Eaton, Beachwood, OH; EbV Elektronikbauund Vertriebbsges GmbH, Burbach, GERMANY; EcoNet Controls Inc., Burlington, CANADA; Ei Electronics, County Clare, IRELAND; ELTEX Enterprise Ltd., Novosibirsk, RUSSIA; Enerwave, Irvine, CA; Everspring Industry Co., Ltd., New Taipei City, TAIWAN; Evolvere SpA Societa Benefit, Milano, ITALY; Ezlo Innovation, Clifton, NJ; FAKRO sp. z o.o., Nowy Sacz, POLAND; Fantem Technologies (Shenzhen) Co., Ltd., Shenzhen, PEOPLE'S REPUBLIC OF CHINA; Fibar Group S.A., Wysogotowo, POLAND; FireAngel Safety Technology, Coventry, UNITED KINGDOM; Flex Automation (Z-Wave Tecnologia), Sao Paulo, BRAZIL; Focalcrest Limited, Shenzhen, PEOPLE'S REPUBLIC OF CHINA; GOAP Racunalniski inzeniring in avtomatizacija procesov d.o.o. Nova Gorica., Solkan, SLOVENIA; Golden Mark (HK) Limited, Kowloon, HONG KONG; Guangzhou MCOHome Technology Co., LTD., Guangzhou, PEOPLE'S REPUBLIC OF CHINA; HAB Home Intelligence, North Richland Hills, TX; Haier US Appliance Solutions, Inc. dba GE Appliances, Louisville, KY; Hangzhou Hikvision Digital Technology Co., Ltd., Hangzhou City, PEOPLE'S REPUBLIC OF CHINA; Hangzhou Lifesmart Technology Co., Ltd., Hangzhou, PEOPLE'S REPUBLIC OF CHINA; Hangzhou Roombanker Technology Co., Ltd., Hangzhou City, PEOPLE'S REPUBLIC OF CHINA; Heatit Controls AB, Brastad, SWEDEN; HELTUN Inc., Los Altos Hills, CA; homee GmbH, Berlin, GERMANY; HOPPE AG, Stadtallendorf, GERMANY; ID Lock AS, Moi, NORWAY; ILEVIA SRL, Bassano del Grappa VI, ITALY; Inergy Systems LLC, Tempe, AZ; Intermatic Incorporated, Spring Grove, IL; Jasco Products, Oklahoma City, OK; JLabs Corporation, Tokyo, JAPAN; Johnson Controls Inc., Milwaukee, WI; Leak Intelligence LLC, Franklin, TN; Leviton Manufacturing Company, Inc., Melville, NY; Logic Group A/S, Broendby, DENMARK; MERCURY Corporation, Incheon, SOUTH KOREA; Mitsumi Electric Co., LTD, Tokyo, JAPAN; MIWA LOCK CO., LTD, Tokyo, JAPAN; MK Logic GmbH, Zwickau, GERMANY; Nanjing IoTx Intelligent Technology Co., Ltd., Nanjing, PEOPLE'S REPUBLIC OF CHINA; NAPCO SECURITY TECHNOLOGIES, Amityville, NY; Ness Corporation Pty Limited, New South Wales, AUSTRALIA; Nexa Trading AB, Askim, SWEDEN; NIE-TECH CO., LTD., Dongguan City, PEOPLE'S REPUBLIC OF CHINA; Ningbo Doooya Mechanic & Electronic Technology Co., Ltd., Ningbo, PEOPLE'S REPUBLIC OF CHINA; Nortek Security & Control, Carlsbad, CA; OBLO Living, Novi Sad, SERBIA; PassivSystems Limited, Berkshire, UNITED KINGDOM; Perenio IOT spol s.r.o., Ricany-Jazlovice, CZECH REPUBLIC; Philio Technology Corporation, New Taipei City, TAIWAN; Quby B.V., Amsterdam, THE NETHERLANDS; Rehau AG + Co, Rehau, GERMANY; Remote Technologies Inc., Shakopee, MN; Remotec Technology Limited, Kowloon, HONG KONG ; Rently Keyless, Los Angeles, CA; Resideo Technologies, Inc., Mellville, NY; RISCO Group Ltd., Rishon, ISRAEL; Sagemcom Broadband SAS, Rueil-Malmaison Cedex, FRANCE; SALTO Systems, Oiartzun, SPAIN; Schlage Lock Company, LLC, Carmel, IN; Secure Meters UK Ltd., Bristol, UNITED KINGDOM; Sensative AB, Lund, SWEDEN; Sharp Corporation, Osaka-fu, JAPAN; Sheenway Asia Limited, Kowloon, HONG KONG; Shenzhen Kaadas Intelligent Technology Co., Ltd, Shenzhen, PEOPLE'S REPUBLIC OF CHINA; SHENZHEN NEO ELECTRONICS CO., LTD, Shenzhen, PEOPLE'S REPUBLIC OF CHINA; SHENZHEN SHYUGJ TECHNOLOGY CO., LTD, Shenzhen, PEOPLE'S REPUBLIC OF CHINA; Shenzhen Sunricher Technology Limited, Shenzhen, PEOPLE'S REPUBLIC OF CHINA; Smart Systems LLC, Moscow, RUSSIA; SmartRent.com, INC, Scottsdale, AZ; Spectrum Brands Inc., Lake Forest, CA; Swidget Corp, Kingston, CANADA; Taiwan Fu Hsing Industrial Co., Ltd, Kaohsiung City, TAIWAN; TechniSat Digital GmbH, Daun, GERMANY; TEM AG, Chur, SWEDEN; Teptron AB, Varburg, SWEDEN; Thinka BV, Amsterdam, THE NETHERLANDS; TLJ Access Control, East Yorkshire, UNITED KINGDOM; Transducers Direct, Cincinnati, OH; Tri plus grupa d.o.o. (Zipato), Zagreb, CROATIA; Ubitech Limited, Tsuen Wan, HONG KONG; Universal Electronics Inc., Scottsdale, AZ; Universal Remote Control, Inc., Harrison, NY; VDA Group SpA a S.U., Pordenone, ITALY; Viewqwest Pte Ltd., Singapore, SINGAPORE; Vision-Elec. Technology Co., Ltd., Tainan City, TAIWAN; Webee Corporation, Sunnyvale, CA; WeBeHome, Bromma, SWEDEN; WiDom Srl, Cagliari, ITALY; Yardi Systems, Goleta, CA; Danalock ApS, Harlev, DENMARK; Pepper One GmbH, Zwickau, GERMANY; and ADT, Boca Raton, FL.

Z-Wave Alliance Inc. was formed as a Delaware non-stock member corporation. The general area of Z-Wave Alliance Inc.'s planned activity is to support the development and extension of the Z-Wave wireless communication protocol and promote the protocol as a key enabling technology for `smart' home and business applications, and to undertake such other activities as may from time to time be appropriate to further the purposes and achieve the goals set forth above.

Membership in Z-Wave Alliance, Inc. remains open and Z-Wave Alliance, Inc. intends to file additional written notifications disclosing all changes in membership.

Suzanne Morris,
Chief, Premerger and Division Statistics Unit, Antitrust Division.

[FR Doc. 2020-26453 Filed 11-30-20; 8:45 am]

BILLING CODE 4410-11-P